DEPARTMENT OF HEALTH AND HUMAN SERVICES

Health Care Financing Administration

42 CFR Parts 400, 430, 431, 434, 435, 438, 440, and 447

[HCFA-2001-F3]

RIN 0938-AI70

Medicaid Program; Medicaid Managed Care: Further Delay of Effective Date

AGENCY: Health Care Financing Administration (HCFA), HHS.

ACTION: Final rule; Further delay of effective date.

SUMMARY: This final rule temporarily delays the effective date of the final rule entitled “Medicaid Managed Care” that was published on January 19, 2001 in the Federal Register (66 FR 6228). That final rule amends the Medicaid regulations to implement provisions of the Balanced Budget Act of 1997 (BBA), which revised various aspects of the Medicaid law as it applies to managed care programs.

On February 26, 2001, we initially delayed the effective date of the final rule from April 19, 2001 until June 18, 2001. This temporary 60-day delay of effective date was necessary to give Department officials the opportunity for further review and consideration of these regulations. We have determined that a short additional period is required properly to consider these issues. We therefore delay the effective date of this rule until August 17, 2001. Therefore, provisions of the rule that must be implemented through contracts with managed care organizations, prepaid health plans, health insuring organizations, or enrollment brokers are effective with respect to contracts that are up for renewal or renegotiation on or after August 17, 2001, but no later than August 18, 2002.

To the extent that 5 U.S.C. section 553 applies to this action, it is exempt from notice and comment because it constitutes a rule of procedure under 5 U.S.C. section 553(b)(3)(a). Alternatively, HCFA's delay of implementation of this rule without opportunity for public comment, effective immediately upon publication today in the Federal Register, is based on the good cause exceptions in 5 U.S.C. sections 553(b)(3)(B) and 553(d)(3), in that seeking public comment is impracticable, unnecessary, and contrary to the public interest. Given the imminence of the effective date, seeking prior public comment on this temporary delay would have been impractical, because the time available before the effective date is too short for meaningful comment. Moreover, to the extent that seeking public comment would preclude this delay, it would be contrary to the public interest in the orderly promulgation and implementation of regulations in light of the development of necessary revisions. The immediate delay is necessary to prevent application of inconsistent standards while we issue the necessary revisions.

DATES: The effective date of the final rule with comment amending 42 CFR parts 400, 430, 431, 434, 435, 438, 440, and 447 that was published in the January 19, 2001 Federal Register (66 FR 6227) and delayed until June 18, 2001 in the February 26, 2001 Federal Register (66 FR 11546), is further delayed until August 17, 2001. Additionally, the implementation date of the rule is delayed until August 17, 2001.

FOR FURTHER INFORMATION CONTACT: Deirdre Duzor, (410) 786-4626.

(Catalog of Federal Domestic Assistance Program No. 93.778, Medical Assistance Program)

Dated: June 11, 2001.
Thomas A. Scully,
Administrator, Health Care Financing Administration.
Approved: June 14, 2001.
Tommy G. Thompson,
Secretary.

[FR Doc. 01-15400 Filed 6-15-01; 8:45 am]

BILLING CODE 4120-01-P